DEPARTMENT OF HEALTH AND HUMAN SERVICES

National Institutes of Health

Center for Scientific Review; Amended Notice of Meeting

Notice is hereby given of a change in the meeting of the Drug Discovery and Mechanisms of Antimicrobial Resistance Study Section, June 9, 2011, 8 a.m. to June 10, 2011, 5:30 p.m. Renaissance Mayflower Hotel, 1127 Connecticut Avenue, NW., Washington, DC 20036 which was published in the Federal Register on May 3, 2011, 76 FR 24897-24899.

The meeting will be held at the Renaissance Washington, DC Dupont Circle Hotel, 1143 New Hampshire Avenue, NW., Washington, DC 20037. The meeting date and time remain the same. The meeting is closed to the public.

Dated: May 9, 2011.
Jennifer S. Spaeth,
Director, Office of Federal Advisory Committee Policy.

[FR Doc. 2011-11786 Filed 5-12-11; 8:45 am]

BILLING CODE 4140-01-P